DEPARTMENT OF THE INTERIOR

Fish and Wildlife Service

50 CFR Part 17

RIN 1018-AI19

Endangered and Threatened Wildlife and Plants; Listing the Tumbling Creek Cavesnail as Endangered

AGENCY: Fish and Wildlife Service, Interior.

ACTION: Proposed rule.

SUMMARY: We, the Fish and Wildlife Service (Service), propose to list the Tumbling Creek cavesnail, Antrobia culveri, as endangered pursuant to the Endangered Species Act of 1973, as amended (Act). An emergency rule listing this species as endangered for 240 days is published concurrently in this issue of the Federal Register. This species is known to occur in one cave in Missouri. The distribution of this species has decreased in Tumbling Creek by 90 percent since 1974. Although cavesnail numbers fluctuated seasonally and annually between 1996 and 2000, it was not found in the monitored section of the cave stream during five surveys in 2001. A few individuals continue to be found in an upstream area, but the population has declined so drastically that the species is on the verge of extinction. Reasons for the decline are unknown, but are likely caused by activities in Tumbling Creek Cave's surface recharge area that have degraded the stream's water quality. Critical habitat is not being proposed at this time. We solicit additional data, information, and comments from the public that may assist us in making a final decision on this proposed action.

DATES: Comments from all interested parties must be received by February 25, 2002. Public hearing requests must be received by February 11, 2002.

ADDRESSES: Comments and other materials concerning this proposal should be sent to the Field Supervisor, Columbia, Missouri Field Office, U.S. Fish and Wildlife Service, 608 E. Cherry St., Room 200, Columbia, Missouri 65201-7712. Comments and materials received, as well as the supporting documentation used in preparing the rule, will be available for public inspection, by appointment, during normal business hours at the above address.

FOR FURTHER INFORMATION CONTACT: Dr. Paul McKenzie at the address listed above (telephone: 573-876-1911, ext. 107; email: paul_mckenzie@fws.gov; facsimile: 573-876-1914; or Mr. Ron Refsnider, U.S. Fish and Wildlife Service, Bishop Henry Whipple Federal Building, 1 Federal Drive, Fort Snelling, Minnesota 55111-4056; telephone: 612-713-5346; email: ron_refsnider@fws.gov; facsimile: 612-713-5292).

SUPPLEMENTARY INFORMATION:

Background

For a discussion of biological background information, previous Federal actions, factors affecting the species, critical habitat, and conservation measures available, consult the emergency rule for the Tumbling Creek cavesnail published concurrently in this issue of the Federal Register.

Public Comments Solicited

We intend that any final action resulting from this proposal will be as accurate and as effective as possible. Therefore, we solicit comments or suggestions from the public, other concerned governmental agencies, the scientific community, industry, or any other interested party concerning this proposed rule. We particularly seek comments concerning:

(1) Biological, commercial trade, or other relevant data concerning any threat (or lack thereof) to this species;

(2) The location of any additional populations of this species;

(3) Additional information concerning the range, distribution, and population size of this species;

(4) Current or planned activities in the subject area and their possible impacts on this species; and

(5) The reasons why any habitat should or should not be determined to be critical habitat as provided by section 4 of the Act.

In making any final decision on this proposal we will take into consideration the comments and any additional information we receive, and such communications may lead to a final regulation that differs from this proposal.

The Act requires that a public hearing be held if requested within 45 days of the date of publication of a proposed rule. Such requests must be made in writing and must be addressed to the Field Supervisor of our Columbia, Missouri, Field Office. (See ADDRESSES section).

National Environmental Policy Act

We have determined that an Environmental Assessment or Environmental Impact Statement, as defined under the authority of the National Environmental Policy Act of 1969, need not be prepared in connection with regulations adopted pursuant to section (4)(a) of the Endangered Species Act. We published a notice outlining our reasons for this determination in the Federal Register on October 25, 1983 (48 FR 49244).

Paperwork Reduction Act

This rule does not contain any collections of information other than those already approved under the Paperwork Reduction Act, 44 U.S.C. 3501 et seq., and assigned Office of Management and Budget clearance number 1018-0094. An agency may not conduct or sponsor, and a person is not required to respond to, a collection of information unless it displays a currently valid control number. For additional information concerning permit and associated requirements for endangered species, see 50 CFR 17.21 and 17.22.

Author

The primary author of this proposed rule is Paul McKenzie, Ph.D., of our Columbia, Missouri, Field Office (see ADDRESSES section).

List of Subjects in 50 CFR Part 17

Endangered and threatened species, Exports, Imports, Reporting and recordkeeping requirements, Transportation.

Proposed Regulation Promulgation

For the reasons given in the preamble to the emergency rule listing the Tumbling Creek cavesnail as endangered, published concurrently in this issue of the Federal Register, we propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500, unless otherwise noted.

2. Amend § 17.11(h) by adding the following, in alphabetical order under SNAILS, to the List of Endangered and Threatened Wildlife:

§ 17.11 Endangered and threatened wildlife.

* * * * *

(h) * * *

Species: Common name | Species: Scientific name | Historic range | Vertebrate population where endangered or threatened | Status | When listed | Critical habitat | Special rules
* * * * * * *
Snails
* * * * * * *
Cavesnail, Tumbling Creek | Antrobia culveri | U.S.A. (MO) | NA | E |  | NA | NA
* * * * * * *

Dated: December 10, 2001.
Marshall P. Jones Jr.,
Acting Director, Fish and Wildlife Service.

[FR Doc. 01-31306 Filed 12-26-01; 8:45 am]

BILLING CODE 4310-55-P